DEPARTMENT OF COMMERCE

Foreign-Trade Zones Board

[Order No. 1170]

Expansion of Foreign-Trade Zone 115 Beaumont, TX Area

Pursuant to its authority under the Foreign-Trade Zones Act of June 18, 1934, as amended (19 U.S.C. 81a-81u), the Foreign-Trade Zones Board (the Board) adopts the following Order:

Whereas, the Foreign Trade Zone of Southeast Texas, Inc., grantee of Foreign-Trade Zone 115, submitted an application to the Board for authority to expand FTZ 115 to include a site at the Sun Pipe Line Company crude oil petroleum terminal (Site 8) in Nederland, Texas (including certain areas previously authorized as Subzone 116B), within the U.S. Customs Service consolidated port of Port Arthur and Sabine (FTZ Docket 67-2000; filed 11/29/00 and amended on 2/7/01).

Whereas, notice inviting public comment was given in the Federal Register (65 F.R. 77560, 12/12/00, and as amended, 66 F.R. 10010, 2/13/01), the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 115 is approved, subject to the Act and the Board's regulations, including Section 400.28.

Signed at Washington, DC, this 29th day of May 2001.
Faryar Shirzad,
Assistant Secretary of Commerce for Import Administration, Alternate Chairman, Foreign-Trade Zones Board.
Attest:
Dennis Puccinelli,
Executive Secretary.

[FR Doc. 01-14799 Filed 6-11-01; 8:45 am]

BILLING CODE 3510-DS-P